DEPARTMENT OF AGRICULTURE

Animal and Plant Health Inspection Service

[Docket No. APHIS-2014-0004]

Availability of an Environmental Assessment and Finding of No Significant Impact for a Biological Control Agent for Soybean Aphid in the Continental United States

AGENCY: Animal and Plant Health Inspection Service, USDA.

ACTION: Notice.

SUMMARY: We are advising the public that the Animal and Plant Health Inspection Service has prepared an environmental assessment and finding of no significant impact relative to the release of Aphelinus rhamni for the biological control of the soybean aphid, Aphis glycines, in the continental United States. Based on its finding of no significant impact, the Animal and Plant Health Inspection Service has determined that an environmental impact statement need not be prepared.

FOR FURTHER INFORMATION CONTACT: Dr. Shirley A Wager-Pagé, Chief, Pest Permitting Branch, Plant Health Programs, PPQ, APHIS, 4700 River Road Unit 133, Riverdale, MD 20737-1236; (301) 851-2323.

SUPPLEMENTARY INFORMATION: The soybean aphid, Aphis glycines, which is native to Asia, was found in North America in 2000 and has since become a major pest. It infested 42 million acres in North America in 2003, resulting in decreased soybean yields and greatly increased control costs. The soybean aphid has invaded most soybean production regions in North America. By 2009, soybean aphid was present in 30 States and 3 Canadian Provinces.

The Animal and Plant Health Inspection Service (APHIS) is proposing to issue permits for the field release of a parasitic wasp, Aphelinus rhamni, to reduce the severity of soybean damage from infestations of soybean aphid in the United States.

On May 2, 2014, we published in the Federal Register (79 FR 25094-25095, Docket No. APHIS-2014-0004) a notice ¹ in which we announced the availability, for public review and comment, of an environmental assessment (EA) that examined the potential environmental impacts associated with the proposed release of this biological control agent into the continental United States.

¹ To view the notice, the comment we received, the EA, and the FONSI go to http://www.regulations.gov/#!docketDetail;D=APHIS-2014-0004.

We solicited comments on the EA for 30 days ending June 2, 2014. We received one comment by that date. The commenter stated her opposition to the proposed release of A. rhamni, but did not provide any substantive information or specific concerns.

In this document, we are advising the public of our finding of no significant impact (FONSI) regarding the release of A. rhamni into the continental United States for use as a biological control agent to reduce the severity of soybean aphid infestations. The finding, which is based on the EA, reflects our determination that release of this biological control agent will not have a significant impact on the quality of the human environment.

The EA and FONSI may be viewed on the Regulations.gov Web site (see footnote 1). Copies of the EA and FONSI are also available for public inspection at USDA, Room 1141, South Building, 14th Street and Independence Avenue SW., Washington, DC, between 8 a.m. and 4:30 p.m., Monday through Friday, except holidays. Persons wishing to inspect copies are requested to call ahead on (202) 799-7039 to facilitate entry into the reading room. In addition, copies may be obtained by calling or writing to the individual listed under FOR FURTHER INFORMATION CONTACT.

The EA and FONSI have been prepared in accordance with: (1) The National Environmental Policy Act of 1969 (NEPA), as amended (42 U.S.C. 4321 et seq.); (2) regulations of the Council on Environmental Quality for implementing the procedural provisions of NEPA (40 CFR parts 1500-1508); (3) USDA regulations implementing NEPA (7 CFR part 1b); and (4) APHIS' NEPA Implementing Procedures (7 CFR part 372).

Done in Washington, DC, this 26th day of September 2014.
Kevin Shea,
Administrator, Animal and Plant Health Inspection Service.

[FR Doc. 2014-23415 Filed 9-30-14; 8:45 am]

BILLING CODE 3410-34-P